DEPARTMENT OF ENERGY

Federal Energy Regulatory Commission

Murphy Dam, LLC; Notice Granting Late Intervention

On April 21, 2015, Commission staff issued a public notice for Murphy Dam, LLC's preliminary permit application to study the feasibility of the Murphy Dam Hydroelectric Project No. 14670. The proposed project would be located on the Connecticut River, near Pittsburg, Coos County, New Hampshire.

The notice established June 20, 2015, as the deadline to file motions to intervene. On July 22, 2015, the Connecticut River Watershed Council, Inc. filed a late motion to intervene in the proceeding. Pursuant to Rule 214 of the Commission's Rules of Practice and Procedure,¹ the late motion to intervene is granted, subject to the Commission's Rules and Regulations.

¹ 18 CFR 385.214 (2014).

Dated: August 4, 2015.
Nathaniel J. Davis, Sr.,
Deputy Secretary.

[FR Doc. 2015-19558 Filed 8-7-15; 8:45 am]

BILLING CODE 6717-01-P